OVERSEAS PRIVATE INVESTMENT CORPORATION

Privacy Act of 1974, as Amended; Systems of Records Notice

ACTION: Notice to add Privacy Act system of records notice for the Federal Personnel Payroll System (FPPS) and Datamart.

SUMMARY: The Overseas Private Investment Corporation (OPIC) is giving notice that it proposes to add a system of records for the Federal Personnel/Payroll System (FPPS) and Datamart, to its existing inventory of systems subject to the Privacy Act of 1974 (5 U.S.C. 552a).

This document pertains to OPIC/HRM present system, FPPS and Datamart.

ADDRESSES: Written comments may be addressed and mailed or hand delivered to Denise H. Bielan, Director for Human Resources Management, Overseas Private Investment Corporation, 1100 New York Avenue, NW., Washington, DC 20527. Faxes may be sent to Denise H. Bielan at (202) 408-9853. Submit electronic comments to Denise.Bielan@opic.gov. If changes are made based on OPIC's review of comments received, a new final notice will be published.

FOR FURTHER INFORMATION CONTACT: Denise H. Bielan, Overseas Private Investment Corporation, 1100 New York Avenue, NW., Washington, DC 20527, telephone number (202) 336-8448.

Categories of individuals covered by the system:

Current and former employees of the Corporation.

Categories of records in the system:

This system consists of a variety of records relating to pay and leave determinations made about each employee of OPIC. In addition to the name of the employee, the system includes information such as the employee's date of birth, social security number (SSN), home address, grade or rank, employing organization, salary, civil service retirement fund contributions, pay plan, number of hours worked, annual and sick leave balances, deductions for Medicare and/or FICA, Federal, State and city tax withholdings, Federal Employees Group Life Insurance withholdings, Federal Employees Health Benefits withholdings, awards, commercial garnishments, child support and/or alimony wage assignments, savings allotments, union and management association dues withholdings allotments, savings and bonds allotments, Combined Federal Campaign allotments, and Thrift Savings Plan contributions.

Purpose(s):

FPPS: Records in this system are used to insure that each employee receives the proper pay and allowances; that proper deductions and authorized allotments are made from employees' pay; and that employees are credited and charged with the proper amount of leave. Records are also used to produce summary descriptive statistics and analytical studies in support of the functions for which the records are collected and maintained and for related personnel management functions or pay studies, and for other purposes compatible with the intent for which the records system was created.

Datamart®: This system is used to provide a data warehouse which allows appropriate users to access FPPS data through a core reporting tool, Hyperion®. The reports may be pre-formatted or ad hoc, and are available to appropriate users from OPIC.

Routine uses of records maintained in the system, including categories of users and the purposes of such uses:

Disclosure may be made for routine uses as indicated below:

1. To the Internal Revenue Service and to State and local government tax agencies: Records relating to employees' income including name, home address, social security number, earned income, and amount of taxes withheld.

2. To Federal, State, Foreign and local law enforcement agencies in the event that this system of records indicates a violation or potential violation of law, whether civil, criminal, or regulatory in nature.

3. To a Federal, State, or local agency maintaining civil, criminal, or other relevant enforcement records or other pertinent records, such as current licenses, if necessary to obtain a record relevant to an Agency decision concerning the hiring or retention of an employee, the issuance of a security clearance, the letting of a contract, or the issuance of a license, grant or other benefit.

4. To a Federal agency, in response to its request in connection with the hiring or retention of an employee, the issuance of a security clearance, the reporting of an investigation of an employee, the letting of a contract, or the issuance of a license, grant, or other benefit by the requesting agency, to the extent that the record is relevant and necessary to the requesting agency's decision on the matter.

5. To a Federal agency having the power to subpoena records, for example, the Internal Revenue Service or the Civil Rights Commission, in response to a subpoena for information contained in this system of records.

6. To officials of labor organizations recognized under 5 U.S.C. Chapter 71 when relevant and necessary to their duties of exclusive representation concerning personnel policies, practices, and matters affecting conditions of employment.

7. To contractors or another Federal agency when OPIC contracts with a private firm or makes arrangement with a Federal agency for the purpose of performing personnel/payroll related processing, in addition to collating, analyzing, aggregating or otherwise refining records in this system. The contractor shall be required to maintain Privacy Act safeguards with respect to such records.

8. To the Office of Personnel Management, the Merit Systems Protection Board, or the Office of the Special Counsel when information is requested in connection with appeals, special studies of the civil service and other merit systems, review of those agencies' rules and regulations, investigation of alleged or possible prohibited personnel practices, and for such other function of these agencies as may be authorized by law, e.g., 5 U.S.C. 1205 and 1206.

9. To the Equal Employment Opportunity Commission when requested in connection with investigations into alleged or possible discriminatory practices in the Federal sector, examination of Federal affirmative employment programs, compliance by Federal agencies with the Uniform Guidelines on Employee Selection Procedures, or other functions vested in the Commission.

10. To respond to court orders for garnishment of an employee's pay for alimony or child support or commercial debt.

11. To the Department of the Treasury for the purposes of preparing and issuing employee salary and compensation checks and United States Savings Bonds.

12. To State offices of unemployment compensation in connection with claims filed by current or former OPIC employees for unemployment compensation.

13. To a congressional office in response to an inquiry from the congressional office made at the request of that individual.

14. To financial organizations designated to receive labor organization or management association dues withheld from employees' pay, in order to account for the amounts of such withheld dues which they receive.

15. To a Federal agency for the purposes of conducting computer matching programs designed to reduce fraud, waste, and abuse using loan or benefit records of a Federal, State, or local agency to identify employee's improperly receiving loans or benefits and to facilitate the collection of debts owed the United States.

16. To a Federal agency in response to a written request from that agency, personally signed by the supervisor, specifying the particular portion desired and the law enforcement activity for which the record is sought. The request for the record must be connected with the agency's auditing and investigative functions designed to reduce waste, fraud, and abuse. It must be based on information which raises questions about an individual's eligibility for benefits or payments, and it must be made reasonably soon after the information is received.

17. To the General Services Administration and the National Archives and Records Administration (NARA) under 44 U.S.C. 2904 and 2906, as amended by the NARA Act of 1984, information which is not restricted from disclosure by Federal law for the use of those agencies in conducting records management studies.

18. To student volunteers, individuals working under a personal services contract, and other workers who technically do not have the status of Federal employees, when they are performing work for the Overseas Private Investment Corporation, as authorized by law, who need access to personally identifiable information in OPIC records in order to perform their assigned Corporation functions.

Disclosure to consumer reporting agencies:

None.

Policies and practices for storing, retrieving, accessing, retaining, and disposing of records in the system:

Storage:

Records are maintained manually and are stored electronically at the Department of the Interior (DOT), National Business Center (NBC), in Denver, Colorado. Historic records are stored on magnetic media and electronically at DOI/NBC. Original input documents are kept in standard office filing equipment in a secure file room.

Retrievability:

Records are retrievable by name and SSN from DOI/NBC.

Safeguards:

Access to, and use of, these records is limited to personnel whose official duties require such access. Personnel screening is employed to prevent unauthorized disclosure.

Retention and disposal:

Records submitted by the individual, such as allotment authorization forms, home address forms, and tax withholding forms, are retained until superseded by new forms or until the individual leaves OPIC. Most of these records are then destroyed. Some of these records must be retained for an additional period, or forwarded to the new employing agency. Time and attendance records are retained by the Records Department for six years and three months, and then they are destroyed.

The automated personnel/payroll master record, established when the individual is first employed and continually updated throughout the period of his/her employment, is retained until the individual leaves OPIC.

System manager(s) and address:

Director of Human Resources Management, 1100 New York Avenue, NW., Washington, DC 20527.

Notification procedures:

An individual requesting either notification of, access to, or copies of a record about him/her must make a request in writing, signed by the individual, and, except in the event such requesting individual is an officer or employee of OPIC, must include a notarized statement to verify his/her identity or must certify in the request that he/she is the person claimed to be. These procedures are in accordance with OPIC Regulations (22 CFR 707.21(b)). Such request must either be mailed to the system manager(s) at the above address or delivered to the receptionist for OPIC between 8:45 a.m. and 5:30 p.m., Monday through Friday, excluding legal public holidays. The request must include the individual's name, SSN, or other information that may be in the system of records that will identify him/her. The request must be accompanied by a document that serves as proof of identity, such as a driver's license, identification card, passport, employee identification card or some other means of identification.

Prior to providing any individual either with notification of, access to or copies of any records maintained by OPIC that contain information to said individual, the Director, HRM must verify the identity of such individual.

Examples of reasonable proof of identity include a valid driver's license, identification card, passport, employee identification card and any other identifying information. The Director, HRM shall deny any such request from any individual if he determines, in his sole discretion, that the evidence offered to verify the identity of such individual is insufficient to establish conclusively the identity of such individual. Upon denying any such request, the Director, HRM shall promptly notify the individual in writing of such determination.

In the event the Director, HRM declines a request because the individual has not provided adequate evidence to verify his identity, said individual may, within 30 days of such determination, file a written appeal to the Executive Vice President of OPIC.

Copies of records will be furnished upon payment of the fees prescribed in 22 CFR 707.23. Copies of records made available for review may be released to a duly authorized representative, signed by such individual and duly acknowledged before a notary public or other authorized public official.

Record access procedures:

Access to records maintained by OPIC will be provided only by appointment. Access to any records maintained by OPIC will not be provided any individual until OPIC has received from such individual a written request. See notification procedures for written request requirements and verification of the identity of the individual. Requesters must also state the date and hour the individual wishes such an appointment, and whether the individual wishes to receive copies of the records.

OPIC may require any individual who wishes to be accompanied by any other individual when reviewing any records to provide a signed, written statement authorizing discussion of the information contained in such records in the presence of such accompanying individual.

Contesting records procedures:

Same as notification procedures. Also, requesters should reasonably identify the record, specify the information they are contesting and the correction action sought, and the reasons for the correction, with supporting justification showing how the record is incomplete, untimely, inaccurate or irrelevant. This procedure is in accordance with OPIC Regulations (22 CFR 707.22).

Record source categories:

Information in this system of records is (1) supplied directly by the individual, or (2) derived from information supplied by the individual, or (3) supplied by Human Resources Management Staff (HIRM) and other OPIC officials.

Exemptions claimed for the system:

None.

Dated: April 1, 2009.
Denise H. Bielan,
Director for Human Resources Management.

[FR Doc. E9-7915 Filed 4-9-09; 8:45 am]

BILLING CODE